Presidential Determination No. 2011-9 of April 26, 2011

Drawdown Pursuant to Section 552(c)(2) of the Foreign Assistance Act of 1961, as Amended, of up to $25 Million in Commodities and Services from any Agency of the United States Government for Libyan Groups, such as the Transitional National Council, to Support Efforts to Protect Civilians and Civilian-Populated Areas Under Threat of Attack in Libya

Memorandum for the Secretary of State [and] the Secretary of Defense

Pursuant to the authority vested in me as President by section 552(c)(2) of the Foreign Assistance Act of 1961, as amended, 22 U.S.C. 2348a (FAA), I hereby determine that:

(1) as a result of an unforeseen emergency, the provision of assistance under Chapter Six of Part II of the FAA in amounts in excess of funds otherwise available for such assistance is important to the national interests of the United States; and

(2) such unforeseen emergency requires the immediate provision of assistance under Chapter Six of Part II of the FAA.

I therefore direct the drawdown of up to $25 million in nonlethal commodities and services from the inventory and resources of any agency of the United States Government to support key U.S. Government partners such as the Transitional National Council in efforts to protect civilians and civilian populated areas under threat of attack in Libya.

The Secretary of State is authorized and directed to report this determination to the Congress, arrange for its publication in the Federal Register, and coordinate the implementation of this drawdown.

THE WHITE HOUSE,

WASHINGTON, April 26, 2011

[FR Doc. 2011-11963

Filed 5-12-11; 8:45 am]

Billing code 3195-W1-P